DEPARTMENT OF ENERGY

National Energy Technology Center; Notice of Intent To issue a Federal Assistance Solicitation (PS)

AGENCY: National Energy Technology Center (NETL), Department of Energy (DOE).

ACTION: Notice.

SUMMARY: Notice is hereby given of the intent to issue a PS No. DE-PS26-00NT40781 entitled “Energy Efficient Building Equipment and Envelope Technologies, Round II.” The PS will solicit the submission of innovative technologies that have the potential for significant energy savings in residential and commercial buildings. Through this solicitation, the Department of Energy is seeking to support projects that are advancing energy efficient equipment, envelope technologies and whole building technologies. Specifically, the objective of the procurement is to accelerate high-payoff technologies that, because of their risk, are unlikely to be developed in a timely manner without a partnership between industry and the Federal government.

DATES: The solicitation will be available from NETL's Internet address at http://www.netl.doe.gov/business. Prospective offerors who would like to be notified as soon as the solicitation is available should register at http://www.netl.doe.gov/business/index.html. Provide your e-mail address and click on the heading “Energy Efficiency and Renewable Energy.” Once you subscribe, you will receive an announcement by e-mail that the solicitation has been released to the public. Those prospective offerors who obtain a copy of the solicitation through the Internet should check the location frequently for any solicitation amendments. Telephone requests, written requests, e-mail requests, or facsimile requests for a copy of the solicitation package will not be accepted and/or honored. The actual solicitation document will allow for requests for explanation and/or interpretation. Solicitations will not be distributed in paper form or on diskette. The solicitation will be available on or about February 12, 2000. The exact date and time for the submission of proposals will be indicated in the solicitation. However, at least a forty-five day response time is currently planned.

ADDRESSES: Acquisition and Assistance Division, U.S. Department of Energy, National Energy Technology Center, P.O. Box 880, Morgantown, WV 26507-0880.

FOR FURTHER INFORMATION CONTACT: Vicky L. Shears, Contract Specialist, U.S. Department of Energy, National Energy Technology Center, P.O. Box 880, Morgantown, WV 26507-0880; Telephone 304/285-4083.

SUPPLEMENTARY INFORMATION: DOE/NETL intends to select a group of projects programmatically balanced with respect to: (1) Technology category (equipment end users, envelopes and whole buildings); (2) building type (residential and/or commercial); and (3) time of commercialization (short-term or long-term market potential of the technology). The solicitation will cover research and development on materials, components and systems applicable to both residential and commercial buildings. The solicitation will not support demonstration projects to deploy the technology on a large scale but will support proof of concept projects.

The research and development areas of interest are as follows: Building Equipment—energy conversion and control equipment supplying lighting, space conditioning (heating, cooling, dehumidification and ventilation), water heating, refrigeration, appliance services and electric power to building occupants and commercial operations; Building Envelope—materials, components and systems for windows, walls, roofs, foundations and other elements which comprise building exteriors and provide thermal integrity and day lighting; and Whole Building Technologies—the integration of components and systems which govern overall energy use and indoor environmental quality in a building.

The solicitation covers research in four technology maturation stages. Technology Maturation Stage 2 involves applied research; Technology Maturation Stage 3 involves exploratory development (non-specific applications and bench-scale testing; Technology Maturation Stage 4 involves advanced development (specific applications and bench-scale testing); and Maturation Stage 5 involves engineering development (pilot-scale and/or field testing).

Multiple awards are expected regardless of the technology maturation stage(s) proposed. For projects spanning more than one maturation stage, continuation decision points will be inserted at the completion of each stage. Additional decision points may be required depending upon the length of any one maturation stage. It is anticipated that eight to ten awards will be made with an average total estimated cost from $200,000 to $1,000,000. It is DOE's desire to encourage the widest participation including the involvement of individuals, corporations, non-profit organizations, and state or local governments or other entities. In order to gain the necessary expertise to review proposals, non-Federal personnel may be used as evaluators or advisors in the evaluation of proposals, but will not serve as members of the technical evaluation committee. This particular program is covered by Sections 3001 and 3002 of the Energy Policy Act (EPAct), 42 U.S.C. 13542 for financial assistance awards. EPAct 3002 requires a cost share commitment of at least 20 percent from non-Federal sources for research and development projects. In accordance with FAR 52.232-18, “Availability of Funds,” funds are not presently available for this procurement. The Government's obligation under this award is contingent upon the availability of appropriated funds from which payment for award purposes can be made.

Issued January 19, 2000.
Randolph L. Kesling,
Division Director, Acquisition and Assistance Division.

[FR Doc. 00-1801 Filed 1-25-00; 8:45 am]

BILLING CODE 6450-01-P